ENVIRONMENTAL PROTECTION AGENCY

40 CFR Part 60

[EPA-HQ-OAR-2003-0215; FRL-9928-96-OAR]

RIN 2060-AM08

Standards of Performance for Municipal Solid Waste Landfills

AGENCY: Environmental Protection Agency (EPA).

ACTION: Supplemental proposal.

SUMMARY: The Environmental Protection Agency (EPA) is issuing this supplemental proposal for the Standards of Performance for Municipal Solid Waste (MSW) Landfills to address the nonmethane organic compound (NMOC) emission rate threshold at which an affected MSW landfill must install controls. The EPA is in the process of reviewing the Standards of Performance for MSW Landfills based on changes in the landfills industry since the standards were promulgated in 1996 and issued a proposed rulemaking on July 17, 2014. The EPA's review of the Standards of Performance for MSW Landfills (also referred to as the New Source Performance Standards or NSPS for MSW Landfills) applies to landfills that commenced construction, reconstruction, or modification after July 17, 2014.

This document proposes to achieve additional reductions of landfill gas (LFG) and its components, including methane, through a lower emission threshold at which MSW landfills must install and operate a gas collection and control system (GCCS). This document supplements the proposed July 17, 2014, rulemaking by further lowering, from 40 megagrams per year (Mg/yr) to 34 Mg/yr, the proposed NMOC emissions threshold at which controls would be required. This change to the 2014 proposed threshold is based on additional data we have reviewed that indicate greater potential for reductions in methane emissions from these sources than we originally estimated that can be achieved at reasonable cost. Accordingly, the EPA is proposing to establish the NMOC emission rate threshold for installing a GCCS at 34 Mg/yr and is requesting comment specifically on whether this is appropriate. The EPA is also soliciting comment on the number of facilities that might ultimately become subject to proposed new subpart XXX. The EPA intends to consider the information received in response to this supplemental proposal prior to finalizing revised Standards of Performance for MSW Landfills. The EPA is seeking comment only on the two issues addressed by this supplemental proposal and the supplemental proposal does not otherwise reopen the comment period for the July 17, 2014, proposed rule.

DATES: Comments. Comments must be received on or before October 26, 2015. Under the Paperwork Reduction Act (PRA), comments on the information collection provisions are best assured of consideration if the Office of Management and Budget (OMB) receives a copy of your comments on or before September 28, 2015.

Public Hearing. If anyone contacts the EPA requesting a public hearing by September 1, 2015, the EPA will hold a public hearing on September 11, 2015 from 1:00 p.m. (Eastern Standard Time) to 5:00 p.m. (Eastern Standard Time) at the location in the ADDRESSES section. If no one contacts the EPA requesting a public hearing to be held concerning this proposed rule by September 1, 2015, a public hearing will not take place. Information regarding whether or not a hearing will be held will be posted on the rule's Web site located at http://www.epa.gov/ttnatw01/landfill/landflpg.htm. Please contact Ms. Aimee St. Clair at (919) 541-1063 or at stclair.aimee@epa.gov to register to speak at the hearing. The last day to pre-register to speak at the hearing will be September 8, 2015.

ADDRESSES: Submit your comments, identified by Docket ID No. EPA-HQ-OAR-2003-0215, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Public Hearing. If a public hearing is held, it will be at the U.S. Environmental Protection Agency building located at 109 T.W. Alexander Drive, Research Triangle Park, NC 27711. Information regarding whether or not a hearing will be held will be posted on the rule's Web site located at http://www.epa.gov/ttnatw01/landfill/landflpg.htm.

Please see section I.C of the Supplementary Information for detailed information on the public hearing.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center (EPA/DC), EPA WJC West Building, Room 3334, 1301 Constitution Ave. NW., Washington, DC. The Docket Center is open from 8:30 a.m. to 4:30 p.m., Monday through Friday, excluding legal holidays. The telephone number for the Public Reading Room is (202) 566-1744, and the telephone number for the Air Docket is (202) 566-1742.

FOR FURTHER INFORMATION CONTACT: For information concerning this supplemental proposal, contact Ms. Hillary Ward, Fuels and Incineration Group, Sector Policies and Programs Division, Office of Air Quality Planning and Standards (E143-05), Environmental Protection Agency, Research Triangle Park, NC 27711; telephone number: (919) 541-3154; fax number: (919) 541-0246; email address: ward.hillary@epa.gov.

SUPPLEMENTARY INFORMATION:

Acronyms and Abbreviations. The following acronyms and abbreviations are used in this document.

CAA Clean Air Act

CBI Confidential business information

CFR Code of Federal Regulations

CO2 Carbon dioxide

CO2e Carbon dioxide equivalent

EPA Environmental Protection Agency

GCCS Gas collection and control system

GHG Greenhouse gas

GHGRP Greenhouse Gas Reporting Program

ICR Information collection request

LFG Landfill gas

m³ Cubic meters

Mg Megagram

Mg/yr Megagram per year

MSW Municipal solid waste

mtCO2e Metric tons of carbon dioxide equivalent

NMOC Nonmethane organic compound

NSPS New source performance standards

OAQPS Office of Air Quality Planning and Standards

OMB Office of Management & Budget

RFA Regulatory Flexibility Act

RIA Regulatory impacts analysis

U.S. United States

VCS Voluntary consensus standard

Organization of This Document. The following outline is provided to aid in locating information in this preamble.

I. Background and Purpose of This Regulatory Action

A. Background

B. Proposed NMOC Emission Rate Threshold

C. Public hearing

II. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination with Indian Tribal Governments

G. Executive Order 13045: Protection of Children from Environmental Health Risks and Safety Risks

H. Executive Order 13211: Actions that Significantly Affect Energy Supply, Distribution, or Use

I. National Technology Transfer and Advancement Act

J. Executive Order 12898: Federal Actions to Address Environmental Justice in Minority Populations and Low-Income Populations

I. Background and Purpose of This Regulatory Action

The purpose of this regulatory action is to propose and take comment on a supplemental change to the proposed Standards of Performance for MSW Landfills resulting from the EPA's ongoing review of the standards under Clean Air Act (CAA) section 111. The EPA is also soliciting comments on the number of facilities that might ultimately become subject to proposed new 40 CFR part 60, subpart XXX.

A. Background

On July 17, 2014, the EPA proposed a new NSPS subpart (40 CFR part 60, subpart XXX) based on its ongoing review of the MSW Landfills NSPS (40 CFR part 60, subpart WWW) (79 FR 41796) (referred to as “NSPS proposal” in this document). The NSPS proposal is consistent with President Obama's Climate Action Plan and corresponding Methane Strategy. The June 2013 Climate Action Plan directed federal agencies to focus on “assessing current emissions data, addressing data gaps, identifying technologies and best practices for reducing emissions, and identifying existing authorities and incentive-based opportunities to reduce methane emissions.” Methane is a potent greenhouse gas (GHG) that has a warming potential that is 28-36 times greater than carbon dioxide (CO2) and has an atmospheric life of about 12 years. Given methane's potency as a GHG and its atmospheric life, reducing methane emissions is one of the best ways to achieve near-term beneficial impact in mitigating global climate change. The March 2014 “Climate Action Plan: Strategy to Reduce Methane Emissions” (the Methane Strategy) directed the EPA to continue to pursue emission reductions through regulatory updates and to encourage LFG energy recovery through voluntary programs.

The proposed new subpart retained the same design capacity size thresholds of 2.5 million cubic meters (m³) and 2.5 million Mg as 40 CFR part 60, subparts Cc and WWW, but lowered the NMOC emission rate at which an MSW landfill must install controls to 40 Mg/yr. Several additional options for revising the NMOC emission rate were also presented, including an NMOC emission rate of 34 Mg/yr. Since presenting these options, the EPA has updated its model that estimates the emission reductions and cost impacts of changes to the design capacity thresholds and/or the NMOC emission rate trigger based on public comments and new data. This supplemental proposal provides information about these updates for public review and comment.

B. Proposed NMOC Emission Rate Threshold

For the reasons presented below, the EPA is now proposing to establish the NMOC emissions threshold for requiring installation of a GCCS in proposed subpart XXX (of 40 CFR part 60) at 34 Mg/yr, rather than the 40 Mg/yr proposed on July 17, 2014, and is requesting specific comments on whether this is appropriate. The EPA is not proposing to revise the design capacity threshold of 2.5 million m³ and 2.5 million Mg.

For the July 17, 2014, NSPS proposal, the EPA estimated the emission reductions and costs associated with 17 new “greenfield” MSW landfills that the EPA projected to commence construction, reconstruction, or modification between 2014 and 2018 and have a design capacity of 2.5 million m³ and 2.5 million Mg. The basis of the projected number of new landfills and associated emission reductions are presented in the MSW Landfills NSPS Docket ID No. EPA-HQ-OAR-2003-0215 (see the docketed memorandum “Methodology for Estimating Cost and Emission Impacts of MSW Landfills Regulations. 2014”). Multiple commenters on the MSW Landfills NSPS proposal stated that the EPA underestimated the cost impacts of the proposed NSPS because the EPA failed to consider the number of MSW landfills that are expected to become subject to the proposed NSPS through modification.

In response to these comments, the EPA consulted with its Regional Offices, as well as state and local authorities, to identify landfills expected to undergo a modification as defined in proposed 40 CFR part 60, subpart XXX within the next 5 years. Based on this information, the EPA estimated the number of existing landfills likely to modify after July 17, 2014, and thereby become subject to proposed subpart XXX. In addition, the EPA made several changes to its underlying dataset and methodology used to analyze the impacts of potential control options, as discussed in the docketed memoranda, “Updated Methodology for Estimating Cost and Emission Impacts of MSW Landfills Regulations. 2015,” and “Updated Methodology for Estimating Testing and Monitoring Costs for the MSW Landfill Regulations. 2015.” The EPA also updated the technical attributes of over 1,200 landfills based on new detailed data reported to 40 CFR part 98, subpart HH of the Greenhouse Gas Reporting Program (GHGRP). A detailed discussion of updates made to the landfill dataset is in the docketed memorandum, “Summary of Updated Landfill Dataset Used in the Cost and Emission Reduction Analysis of Landfills Regulations. 2015.”

As a result of the changes to the dataset, the number and characteristics of new landfills that the EPA projected to commence construction, reconstruction, or modification between 2014 and 2018 and modified landfills that are expected to become subject to proposed 40 CFR part 60, subpart XXX have changed.¹ Based on the revised dataset, the number of landfills estimated to be affected by proposed subpart XXX went from 17 new landfills to 140 new or modified landfills, assuming a design capacity of 2.5 million m³ and 2.5 million Mg.

¹ Under CAA section 111(a) and proposed 40 CFR part 60, subpart XXX the term new landfills encompasses both greenfield facilities and facilities that meet proposed subpart XXX's definition of “modification”. Because the characteristics of a greenfield site and an existing landfill that undergoes modification are different, the dataset distinguishes between the two types of facilities.

Using the revised dataset, the EPA re-ran the model using control options similar to the options presented in the proposed NSPS. The EPA's analysis showed that lowering the NMOC emission rate threshold to 34 Mg/yr NMOC would accelerate the schedule for installing a GCCS and also increase the number of landfills required to install controls, thereby achieving additional reductions in emissions of both NMOC and methane.

On July 17, 2014, the EPA proposed an NMOC threshold of 40 Mg/yr and discussed an alternative NMOC emission threshold of 34 Mg/yr in the NSPS proposal and in an Advanced Notice of Proposed Rulemaking (ANPRM) for the Emission Guidelines (for existing landfills). The EPA considered the information received in response to the ANPRM in evaluating whether additional changes beyond those in the proposed revisions for new sources are warranted (79 FR 41772). Commenters on the proposed NSPS for new landfills and the ANPRM for existing landfills expressed mixed reactions to a lower NMOC emission rate threshold. Several nongovernmental organizations and a local government entity supported a reduction in the NMOC emissions threshold. One state agency provided examples of existing landfills controlling emissions in its state with estimated NMOC emission rates as low as 8.1 Mg/yr.

In contrast, several commenters were concerned with the financial and technical implications of lowering the threshold, including whether landfills were financially prepared to install controls at an earlier time, or whether landfills would lose potential carbon credit revenue from voluntary projects. Another state agency expressed concerns that landfills in arid areas would have difficulty continuously operating a flare at landfills with lower quality gas that emit between 40 and 50 Mg/yr.

Table 1 of this document shows the emission reductions and costs for control options, when using a 7 percent discount rate, in year 2025 at new and modified landfills. At the baseline size and emissions thresholds (i.e., 50 Mg/yr NMOC), 112 of the 140 new or modified landfills are expected to control emissions in 2025. At an emission threshold of 40 Mg/yr NMOC and a design capacity threshold of 2.5 million Mg and 2.5 million m³, as proposed in the NSPS proposal, the incremental number of new (or modified) landfills estimated to require a GCCS in 2025 went from three to 11, for a total of 123 landfills with controls. An emission threshold level of 34 Mg/yr NMOC, which was presented as an option for consideration in the NSPS proposal, results in an estimated 15 additional new or modified landfills requiring controls in year 2025, for a total of 127 landfills with controls.

The incremental emission reductions for an NMOC emission rate of 40 Mg/yr would be 300 Mg/yr NMOC and 44,400 Mg/yr methane (1.1 million metric tons of CO2 equivalent (mtCO2e)) beyond the baseline. The incremental emission reductions for an NMOC emission rate of 34 Mg/yr NMOC would be 300 Mg/yr NMOC and 51,400 Mg/yr methane (1.3 million mtCO2e) beyond the baseline. These incremental emission reductions represent a 2.4- and 2.8-percent reduction in emissions beyond the baseline. The cost effectiveness between an NMOC emission rate of 34 Mg/yr and 40 Mg/yr is comparable, but by lowering the NMOC emissions threshold to 34 Mg/yr, this action achieves additional reductions of 50 Mg/yr NMOC ² and 7,000 Mg/yr methane (175,000 mt/yr CO2e) in 2025. These pollutants are associated with substantial health effects, climate effects, and other welfare effects.

² The unrounded annual NMOC reductions in Table 1 of this preamble are 330 Mg/yr NMOC for option 2.5 million Mg design capacity threshold and 40 Mg/yr NMOC threshold; and 280 Mg/yr NMOC for option 2.5 million Mg design capacity/34 Mg/yr NMOC threshold. Thus, the difference between the NMOC reductions for these two options is 50 Mg/yr NMOC.

Table 1—Emission Reductions and Costs for Control Options in Year 2025 at New and Modified Landfills (2012$)
Option | Number of landfills affected | Number of landfills controlling in 2025 | Number of landfills reporting but not controlling | Annual Net Cost (million $2012) ᵃ | Annual NMOC Reductions (Mg/yr) | Annual methane reductions (Mg/yr) | Annual CO2e reductions (million mt/yr) | NMOC cost effectiveness ($/Mg) | Methane cost effectiveness ($/Mg) | CO2e cost effectiveness ($/mt)
Baseline:
Baseline (2.5 design capacity/50 Mg/yr NMOC) | 140 | 112 | 28 | 61.4 | 11,640 | 1,834,000 | 45.9 | 5,270 | 33 | 1.3
Incremental values vs. the Baseline:
Option (2.5 design capacity/40 Mg/yr NMOC) | 0 | 11 | −11 | 7.4 | 300 | 44,400 | 1.1 | 26,100 | 166 | 6.6
Option (2.5 design capacity/34 Mg/yr NMOC) | 0 | 15 | −15 | 8.5 | 300 | 51,400 | 1.3 | 26,100 | 166 | 6.6
Option (2.0 design capacity/34 Mg/yr NMOC) | 7 | 19 | −12 | 10.2 | 400 | 62,500 | 1.6 | 25,600 | 163 | 6.5
ᵃ Based on the current reported design capacity of landfills, independent of time horizon used in analysis shown in the four cost-effectiveness summary tables. For some modified landfills, landfills may report in early years under the Emission Guidelines and then also report under the NSPS after modification commenced (or year 2016, whatever is later).

The only categories of benefits monetized for this supplemental proposal are methane-related climate impacts and minor secondary CO2-related climate effects. In particular, we estimated the global social benefits of methane emissions using estimates of the social cost of methane (SC-CH4), a metric that estimates the monetary value of impacts associated with marginal changes in methane emissions in a given year.

A similar metric, the social cost of CO2 (SC-CO2), estimates the monetary value of impacts associated with marginal changes in CO2 emissions in a given year.³ The SC-CO2 estimates were developed over many years by an interagency working group, using the best science available, and with input from the public.

³ The SC-CO2 Technical Support Document presents the SC-CO2 estimates as well as a detailed discussion of the underlying methodology. Docket ID No. EPA-HQ-OAR-2013-0495, Technical Support Document: Technical Update of the Social Cost of Carbon for Regulatory Impact Analysis Under Executive Order 12866, Interagency Working Group on Social Cost of Carbon, with participation by Council of Economic Advisers, Council on Environmental Quality, Department of Agriculture, Department of Commerce, Department of Energy, Department of Transportation, Environmental Protection Agency, National Economic Council, Office of Energy and Climate Change, Office of Management and Budget, Office of Science and Technology Policy, and Department of Treasury (May 2013, Revised November 2013). Available at: http://www.whitehouse.gov/sites/default/files/omb/assets/inforeg/technical-update-social-cost-of-carbon-for-regulator-impact-analysis.pdf.

The SC-CH4 estimates used in this analysis were developed by Marten et al. (2014) and are discussed in greater detail in section 4.2 of the Regulatory Impacts Analysis (RIA), which is in the MSW Landfills NSPS docket EPA-HQ-OAR-2003-0215. The four SC-CH4 estimates are: $700, $1,500, $1,900, and $4,000 per metric ton of methane emissions in the year 2025 (2012$). The first three values are based on the average SC-CH4 from the three integrated assessment models, at discount rates of 5, 3, and 2.5 percent, respectively. Estimates of the SC-CH4 for several discount rates are included because the literature shows that the SC-CH4 is sensitive to assumptions about the discount rate, and because no consensus exists on the appropriate rate to use in an intergenerational context (where costs and benefits are incurred by different generations). The fourth value is the 95th percentile of the SC-CH4 across all three models at a 3 percent discount rate. It is included to represent higher-than-expected impacts from temperature change further out in the tails of the SC-CH4 distribution.

The methodology used to calculate methane climate benefits is discussed in detail in Section 4.2 of the RIA. Applying the approach discussed in the RIA to the methane reductions estimated for this supplemental proposal, the 2025 methane benefits of this supplemental proposal vary by discount rate and range from $36 million (2012$) to $210 million (2012$); the mean SC-CH4 at the 3 percent discount rate results in an estimate of $78 million (2012$) in 2025 for the proposed 34 Mg/yr emission threshold (see Table 2 of this preamble). Monetizing the minor secondary CO2 emissions impacts with the SC-CO2 estimates, also described in Section 4.2 of the RIA, yields disbenefits of $0.03 million (2012$) in 2025.

Table 2—Estimated Global Benefits of CH4 Reductions in 2025 ᵃ
[In millions, 2012$]
Methane reductions (million mt) | CO2e Reductions (million mt) | Discount rate and statistic: 5% (average) | Discount rate and statistic: 3% (average) | Discount rate and statistic: 2.5% (average) | Discount rate and statistic: 3% (95th percentile)
0.051 | 1.3 | $36 | $78 | $100 | $210
ᵃ The SC-CH4 values are dollar-year and emissions-year specific. SC-CH4 values represent only a partial accounting of climate impacts. See Section 4.2 of the RIA for a complete discussion about the methodology.

Consistent with the Methane Strategy that was developed as part of the President's Climate Action Plan, the EPA considered control options to achieve additional reductions of methane and NMOC for new landfills. The Climate Action Plan directed the EPA and five other federal agencies to develop a comprehensive interagency strategy to reduce methane emissions. Specifically, the federal agencies were instructed to focus on “assessing current emissions data, addressing data gaps, identifying technologies and best practices for reducing emissions and identifying existing authorities and incentive-based opportunities to reduce methane emissions.” With respect to landfills, the Methane Strategy directs the agency to build upon progress to date through updates to the EPA's rules for reducing emissions from new, modified, and reconstructed landfills. Based on the Climate Action Plan and Methane Strategy, the revised analysis described above, and consideration of comments received on the proposed NSPS and ANPRM, the EPA is proposing to lower the NMOC emission rate threshold to 34 Mg/yr for new (new, modified, and reconstructed) sources subject to proposed 40 CFR part 60, subpart XXX. The EPA is not proposing changes to the design capacity thresholds.

The EPA believes a level of 34 Mg/yr NMOC is achievable for new and modified landfills. Greenfield and modified landfill owners or operators are expected to employ the latest technology and practices to minimize emissions and will have the time to consider the latest technology and practices as they plan the construction of a new landfill or construction of a new cell of a modified landfill. Because the emission threshold level of 34 Mg/yr is more stringent than the level the EPA proposed on July 17, 2014, and the impacts associated with this proposed level of control have a different basis than those outlined in the original proposal, the EPA is soliciting comments on the revised analysis of the proposed NSPS in this supplemental proposal. The EPA is also soliciting comments and data that would help identify landfills that are expected to modify, as defined in the proposed NSPS, during the next 5 years (2014-2018). Comments on an NMOC emission threshold of 34 Mg/yr and comments or data on landfills modifying in the next 5 years should be submitted to Docket ID No. EPA-HQ-OAR-2003-0215. The EPA is not otherwise reopening proposed 40 CFR part 60, subpart XXX for additional comment.

C. Public hearing

Please contact Ms. Aimee St. Clair at (919) 541-1063 or at stclair.aimee@epa.gov to register to speak at the hearing. The last day to pre-register to speak at the hearing will be September 8, 2015. Requests to speak will be taken the day of the hearing at the hearing registration desk, although preferences on speaking times may not be able to be fulfilled. If you require the service of a translator or special accommodations such as audio description, please let us know at the time of registration.

If a hearing is held, it will provide interested parties the opportunity to present data, views or arguments concerning the proposed action. The EPA will make every effort to accommodate all speakers who arrive and register. Because this hearing, if held, will be at a U.S. government facility, individuals planning to attend the hearing should be prepared to show valid picture identification to the security staff in order to gain access to the meeting room. Please note that the REAL ID Act, passed by Congress in 2005, established new requirements for entering federal facilities. If your driver's license is issued by Alaska, American Samoa, Arizona, Kentucky, Louisiana, Maine, Massachusetts, Minnesota, Montana, New York, Oklahoma, or the state of Washington, you must present an additional form of identification to enter the federal building. Acceptable alternative forms of identification include: Federal employee badges, passports, enhanced driver's licenses and military identification cards. In addition, you will need to obtain a property pass for any personal belongings you bring with you. Upon leaving the building, you will be required to return this property pass to the security desk. No large signs will be allowed in the building, cameras may only be used outside of the building and demonstrations will not be allowed on federal property for security reasons.

The EPA may ask clarifying questions during the oral presentations, but will not respond to the presentations at that time. Written statements and supporting information submitted during the comment period will be considered with the same weight as oral comments and supporting information presented at the public hearing. Commenters should notify Ms. St. Clair if they will need specific equipment, or if there are other special needs related to providing comments at the hearing. Verbatim transcripts of the hearing and written statements will be included in the docket for the rulemaking. The EPA will make every effort to follow the schedule as closely as possible on the day of the hearing; however, please plan for the hearing to run either ahead of schedule or behind schedule. A public hearing will not be held unless requested. Please contact Ms. Aimee St. Clair at (919) 541-1063 or at stclair.aimee@epa.gov to request or register to speak at the hearing or to inquire as to whether a hearing will be held.

II. Statutory and Executive Order Reviews

Additional information about these statues and Executive Orders can be found at http://www2.epa.gov/laws-regulations/laws-and-executive-orders.

A. Executive Order 12866: Regulatory Planning and Review and Executive Order 13563: Improving Regulation and Regulatory Review

This action supplements a prior proposed action that was determined to be an economically significant regulatory action that was submitted to the Office of Management and Budget (OMB) for review. Any changes made in response to OMB recommendations have been documented in the docket. The EPA prepared an analysis of the potential costs and benefits associated with this action. This analysis, “Regulatory Impact Analysis for the Proposed Revisions to the Emission Guidelines for Existing Sources and Supplemental Proposed New Source Performance Standards in the Municipal Solid Waste Landfills Sector” is available in the docket.

B. Paperwork Reduction Act (PRA)

The information collection requirements in this supplemental proposal have been submitted for approval to OMB under the PRA. The Information Collection Request (ICR) document that the EPA prepared for this supplemental proposal has been assigned EPA ICR number 2498.02. You can find a copy of the ICR in the docket for this rule, and it is briefly summarized here.

The information required to be collected is necessary to identify the regulated entities subject to the proposed NSPS and to ensure their compliance with the proposed NSPS and this supplemental proposal. The recordkeeping and reporting requirements are mandatory and are being established under authority of CAA section 114 (42 U.S.C. 7414). All information other than emissions data submitted as part of a report to the agency for which a claim of confidentiality is made will be safeguarded according to CAA section 114(c) and the EPA's implementing regulations at 40 CFR part 2, subpart B.

The information collection requirements in the proposed NSPS (79 FR 41828, July 17, 2014) were submitted for approval to OMB under the PRA. The ICR document that the EPA prepared was assigned EPA ICR number 2498.01. Since the NSPS review was proposed on July 17, 2014, the EPA updated the number of existing landfills likely to modify after July 17, 2014, and, thus, become subject to proposed 40 CFR part 60, subpart XXX, as discussed in this preamble. The supplemental proposal to lower the emission threshold for new and modified sources affects the burden estimates the EPA presented in EPA ICR number 2498.01. As a result, the EPA updated the EPA ICR number 2498.01 and re-submitted it to OMB for approval as EPA ICR 2498.02 to reflect the estimated number of respondents and a lower NMOC emission rate. A copy of the ICR is in Docket ID No. EPA-HQ-OAR-2003-0215, and it is briefly summarized here.

Respondents/affected entities: MSW landfills that commence construction, reconstruction, or modification after July 17, 2014.

Respondent's obligation to respond: Mandatory (40 CFR part 60, subpart XXX).

Estimated number of respondents: 144 MSW landfills that commence construction, reconstruction, or modification after July 17, 2014.

Frequency of response: Initially, occasionally, and annually.

Total estimated burden: 101,031 Hours (per year) for the responding facilities and 2,790 hours (per year) for the agency. These are estimates for the average annual burden for the first 3 years after the rule is final. Burden is defined at 5 CFR 1320.3(b).

Total estimated cost: $6,724,350 (per year), which includes annualized capital or operation and maintenance costs, for the responding facilities and $177,680 (per year) for the agency. These are estimates for the average annual cost for the first 3 years after the rule is final.

An agency may not conduct or sponsor, and a person is not required to respond to, a collection of information unless it displays a currently valid OMB control number. The OMB control numbers for the EPA's regulations in 40 CFR are listed in 40 CFR part 9.

Submit your comments on the agency's need for this information, the accuracy of the provided burden estimates and any suggested methods for minimizing respondent burden to the EPA using the docket identified at the beginning of this rule. You may also send your ICR-related comments to OMB's Office of Information and Regulatory Affairs via email to oria_submissions@omb.eop.gov, Attention: Desk Officer for the EPA. Since OMB is required to make a decision concerning the ICR between 30 and 60 days after receipt, OMB must receive comments no later than September 28, 2015. The EPA will respond to any ICR-related comments in the final rules.

C. Regulatory Flexibility Act (RFA)

I certify that this action will not have a significant economic impact on a substantial number of small entities under the RFA. The small entities subject to the requirements of the supplemental proposal may include private small businesses and small governmental jurisdictions that own or operate landfills. Although it is unknown how many new landfills will be owned or operated by small entities, recent trends in the waste industry have been towards consolidated ownership among larger companies. The EPA has determined that approximately 10 percent of the existing landfills subject to similar regulations (40 CFR part 60, subparts WWW and Cc or the corresponding state or federal plan) are small entities. It was determined that the July 2014 proposed NSPS subpart would not have a significant economic impact on a substantial number of small entities. Given the changes in the number of landfills anticipated to become subject to the new proposed NSPS, the potential impact on small entities has been reanalyzed. The EPA has determined that, with a size threshold of 2.5 million Mg and 2.5 million m³ and an NMOC emission rate threshold of 34 Mg/yr, approximately two small entities may experience an impact of greater than 1 percent of revenues. Details of the analysis are presented in “Regulatory Impact Analysis for the Proposed Revisions to the Emission Guidelines for Existing Sources and Supplemental Proposed New Source Performance Standards in the Municipal Solid Waste Landfills Sector,” located in Docket ID No. EPA-HQ-OAR-2003-0215.

Although not required by the RFA to convene a Small Business Advocacy Review (SBAR) Panel because the EPA has now determined that the proposed NSPS would not have a significant economic impact on a substantial number of small entities, the EPA originally convened a panel to obtain advice and recommendations from small entity representatives potentially subject to this rule's requirements. A copy of the Summary of Small Entity Outreach is included in Docket ID No. EPA-HQ-OAR-2003-0215.

D. Unfunded Mandates Reform Act (UMRA)

This action does not contain any unfunded mandate of $100 million or more as described in UMRA, 2 U.S.C. 1531-1538. This supplemental NSPS proposal applies to landfills that commenced construction, reconstruction, or modification after July 17, 2014. Impacts resulting from the proposed NSPS are far below the applicable threshold. Thus, the proposed NSPS is not subject to the requirements of sections 202 or 205 of the UMRA. However, in developing the proposed NSPS, the EPA consulted with small governments pursuant to a plan established under section 203 of the UMRA to address impacts of regulatory requirements in the rule that might significantly or uniquely affect small governments. The EPA held meetings as discussed in section II.E of this preamble under Federalism consultations.

E. Executive Order 13132: Federalism

The EPA has concluded that the supplemental proposal for the NSPS does not have Federalism implications. The proposed NSPS will not have substantial direct effects on the states, on the relationship between the national government and the states, or on the distribution of power and responsibilities among the various levels of government, as specified in Executive Order 13132. The supplemental proposal will not have impacts of $25 million or more in any one year. Thus, Executive Order 13132 does not apply to the supplemental proposal.

Although section 6 of Executive Order 13132 does not apply to the supplemental NSPS proposal, the EPA consulted with state and local officials and representatives of state and local governments early in the process of developing the proposed rules for MSW landfills (both the NSPS and Emission Guidelines) to permit them to have meaningful and timely input into its development.

The EPA conducted a Federalism Consultation Outreach Meeting on September 10, 2013. Due to interest in that meeting, additional outreach meetings were held on November 7, 2013, and November 14, 2013. Participants included the National Governors' Association, the National Conference of State Legislatures, the Council of State Governments, the National League of Cities, the U.S. Conference of Mayors, the National Association of Counties, the International City/County Management Association, the National Association of Towns and Townships, the County Executives of America, the Environmental Council of States, National Association of Clean Air Agencies, Association of State and Territorial Solid Waste Management Officials, environmental agency representatives from 43 states, and approximately 60 representatives from city and county governments. The comment period for the outreach meetings related to the NSPS proposal was extended to allow sufficient time for interested parties to review briefing materials and provide comments. Concerns raised during the consultations include: implementation concerns associated with shortening of gas collection system installation and/or expansion timeframes, concerns regarding significant lowering of the design capacity or emission thresholds, the need for clarifications associated with wellhead operating parameters and the need for consistent, clear and rigorous surface monitoring requirements.

F. Executive Order 13175: Consultation and Coordination With Indian Tribal Governments

The supplemental proposal does not have tribal implications, as specified in Executive Order 13175 (65 FR 67249, November 9, 2000). Based on methodology used to predict future landfills as outlined in the docketed memorandum “Summary of Landfill Dataset Used in the Cost and Emission Reduction Analysis of Landfills Regulations. 2014,” future tribal landfills are not anticipated to be large enough to become subject to the proposed NSPS or this supplemental proposal. Thus, Executive Order 13175 does not apply to this action. The EPA specifically solicits comment on this action from tribal officials.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. The supplemental NSPS proposal is not subject to Executive Order 13045 because it does not concern an environmental health risk or safety risk. We also note that the methane and NMOC reductions expected from the proposed NSPS will have positive health effects, including for children.

H. Executive Order 13211: Actions That Significantly Affect Energy Supply, Distribution, or Use

This action is not a “significant energy action” because it is not likely to have a significant adverse effect on the supply, distribution, or use of energy. Further, we have concluded that the proposed NSPS and supplemental NSPS proposal are not likely to have any adverse energy effects because the energy demanded to operate these control systems will be offset by additional energy supply from LFG energy projects.

I. National Technology Transfer and Advancement Act

This supplemental NSPS proposal does not involve technical standards, however, the NSPS proposed on July 17, 2014 involves technical standards. For the proposed NSPS, the EPA has proposed to use EPA Methods 2E, 3, 3A, 3C, 21, 25, and 25C of 40 CFR part 60, appendix A. While the EPA identified nine voluntary consensus standards (VCS) as being potentially applicable (ANSI/ASME PTC 19-10-1981 Part 10, ASTM D3154-00 (2006), ASME B133.9-1994 (2001), ISO 10396:1993 (2007), ISO 12039:2001, ASTM D5835-95 (2007), ASTM D6522-00 (2005), CAN/CSA Z223.2-M86 (1999), ISO 14965:2000(E)), the agency decided not to use these methods. The EPA determined that the nine candidate VCS identified for measuring emissions of pollutants or their surrogates subject to emission standards in the rule would not be practical due to lack of equivalency, documentation, validation data, and other important technical and policy considerations. The EPA's review, including review comments for these nine methods, is documented in the memorandum, “Voluntary Consensus Standard Results for Standards of Performance for Municipal Solid Waste Landfills 40 CFR part 60, subpart XXX” in the Docket ID No. EPA-HQ-OAR-2003-0215.

J. Executive Order 12898: Federal Actions to Address Environmental Justice in Minority Populations and Low-Income Populations

The EPA believes the human health or environmental risk addressed by the proposed NSPS and this supplemental proposal will not have potential disproportionately high and adverse human health or environmental effects on minority, low-income, or indigenous populations because the proposed NSPS and this supplemental proposal would reduce emissions of LFG, which contains both NMOC and methane. These avoided emissions will improve air quality and reduce public health and welfare effects associated with exposure to LFG emissions. Regarding the NSPS proposal and this supplemental proposal, the EPA has concluded that it is not practicable to determine whether there would be disproportionately high and adverse human health or environmental effects on minority, low income, or indigenous populations from the proposed NSPS and supplemental proposal because it is unknown where new or modified facilities will be located. The demographic analysis results and the details concerning their development are presented in the April 22, 2014 document titled, “2014 Environmental Justice Screening Report for Municipal Solid Waste Landfills,” a copy of which is available in the docket (Docket ID No. EPA-HQ-OAR-2003-0215).

Dated: August 14, 2015.
Gina McCarthy,
Administrator.

[FR Doc. 2015-20897 Filed 8-26-15; 8:45 am]

BILLING CODE 6560-50-P